DEPARTMENT OF AGRICULTURE

Animal and Plant Health Inspection Service

[Docket No. APHIS-2021-0021]

Notice of Availability of an Environmental Assessment for Release of Ganaspis brasiliensis for Biological Control of Spotted-Wing Drosophila in the Continental United States

AGENCY: Animal and Plant Health Inspection Service, Agriculture (USDA).

ACTION: Notice of availability.

SUMMARY: We are advising the public that the Animal and Plant Health Inspection Service has prepared an environmental assessment relative to permitting the release of the insect Ganaspis brasiliensis for the biological control of spotted-wing Drosophila (Drosophila suzukii) in the continental United States. Based on the environmental assessment and other relevant data, we have reached a preliminary determination that the release of this control agent within the continental United States will not have a significant impact on the quality of the human environment. We are making the environmental assessment available to the public for review and comment.

DATES: We will consider all comments that we receive on or before August 16, 2021.

ADDRESSES: You may submit comments by either of the following methods:

• Federal eRulemaking Portal: Go to www.regulations.gov. Enter APHIS-2021-0021 in the Search field. Select the Documents tab, then select the Comment button in the list of documents.

• Postal Mail/Commercial Delivery: Send your comment to Docket No. APHIS-2021-0021, Regulatory Analysis and Development, PPD, APHIS, Station 3A-03.8, 4700 River Road Unit 118, Riverdale, MD 20737-1238.

Supporting documents and any comments we receive on this docket may be viewed at regulations.gov or in our reading room, which is located in room 1620 of the USDA South Building, 14th Street and Independence Avenue SW, Washington, DC. Normal reading room hours are 8 a.m. to 4:30 p.m., Monday through Friday, except holidays. To be sure someone is there to help you, please call (202)-799-7039 before coming.

FOR FURTHER INFORMATION CONTACT: Dr. Colin D. Stewart, Assistant Director, Pests, Pathogens, and Biocontrol Permits, Permitting and Compliance Coordination, PPQ, APHIS, 4700 River Road Unit 133, Riverdale, MD 20737-1238; (301) 851-2327; email: Colin.Stewart@usda.gov.

SUPPLEMENTARY INFORMATION: The Animal and Plant Health Inspection Service (APHIS) is proposing to issue permits for the release of the insect Ganaspis brasiliensis in the continental United States for the biological control of spotted-wing Drosophila (Drosophila suzukii). The action is proposed to reduce the severity of damage to small fruit crops from infestations of spotted-wing Drosophila (SWD) in the continental United States.

SWD is native to East Asia. It was first detected in California, Italy, and Spain in 2008. It has since established in most fruit-growing regions in North America. SWD lays eggs inside ripening fruits. Feeding by SWD larvae results in the degradation of fruits, and the puncturing of the fruit skin may also provide a gateway for secondary bacterial and fungal infections.

Permitting the release of the G-1 lineage of Ganaspis brasiliensis is necessary to reduce SWD populations in non-crop habitats. This would reduce the number of SWD that migrate into susceptible crops and would thereby improve the effectiveness of other SWD control tools. Introducing and establishing this larval parasitoid will uniquely contribute to suppression of SWD because it attacks fly maggots inside the fruit (while most pesticides target only adult flies, and only two pupal parasitoids readily attack SWD). Classical biological control is a potentially useful management strategy for an invasive pest species whenever effective resident natural enemies are lacking in the new distribution range.

APHIS' review and analysis of the potential environmental impacts associated with the proposed release are documented in detail in an environmental assessment (EA) titled “Field Release of Ganaspis brasiliensis (Hymenoptera: Figitidae) for Biological Control of Spotted-wing Drosophila, Drosophila suzukii (Diptera: Drosophilidae), in the Continental United States” (January 2021). Based on our findings in the EA, we are proposing to issue permits for the release of the insect Ganaspis brasiliensis (G-1 lineage) as a biological control agent to reduce SWD infestations. We are making the EA available to the public for review and comment. We will consider all comments that we receive on or before the date listed under the heading DATES at the beginning of this notice.

The EA may be viewed on the regulations.gov website or in our reading room (see ADDRESSES above for a link to regulations.gov and information on the location and hours of the reading room). You may also request paper copies of the EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 12th day of July, 2021.
Mark Davidson,
Administrator, Animal and Plant Health Inspection Service.

[FR Doc. 2021-15167 Filed 7-15-21; 8:45 am]

BILLING CODE 3410-34-P